INTERNATIONAL TRADE COMMISSION

[Investigation No. 332-600]

USMCA Automotive Rules of Origin: Economic Impact and Operation, 2025 Report

AGENCY: United States International Trade Commission.

ACTION: Scheduling of a public hearing.

SUMMARY: The U.S. International Trade Commission (Commission) has scheduled a public hearing for Investigation No. 332-600, USMCA Automotive Rules of Origin: Economic Impact and Operations, 2025 Report, for October 8, 2024.

DATES:

September 24, 2024: Deadline for filing requests to appear at the public hearing.

September 26, 2024: Deadline for filing prehearing briefs and statements.

October 1, 2024: Deadline for filing electronic copies of oral hearing statements (testimony).

October 8, 2024: Public hearing.

October 16, 2024: Deadline for filing posthearing briefs.

November 18, 2024: Deadline for filing all other written submissions.

July 1, 2025: Transmittal of Commission report to the President, the House Committee on Ways and Means, and the Senate Committee on Finance.

ADDRESSES: All Commission offices, including the Commission's hearing rooms, are located in the U.S. International Trade Commission Building, 500 E Street SW, Washington, DC. All written submissions should be addressed to the Secretary, U.S. International Trade Commission, 500 E Street SW, Washington, DC 20436. The public record for this investigation may be viewed on the Commission's electronic docket (EDIS) at https://edis.usitc.gov.

FOR FURTHER INFORMATION CONTACT: Project Leader Mitch Semanik (202-205-2034 or mitchell.semanik@usitc.gov), or Deputy Project Leaders Nathan Lotze (202-205-3231 or nathan.lotze@usitc.gov or 202-205-3231) and Aaron Woodward (202-205-2663 or aaron.woodward@usitc.gov) for information specific to these investigations. For information on the legal aspects of this investigation, contact Brian Allen (202-205-3034 or brian.allen@usitc.gov) or William Gearhart (202-205-3091 or william.gearthart@usitc.gov) of the Commission's Office of the General Counsel. The media should contact Jennifer Andberg, Office of External Relations (202-205-3404 or jennifer.andberg@usitc.gov). Hearing-impaired individuals are advised that information on this matter can be obtained by contacting the Commission's TDD terminal at 202-205-1810. General information concerning the Commission may be obtained by accessing its internet address (https://www.usitc.gov). Persons with mobility impairments who will need special assistance in gaining access to the Commission should contact the Office of the Secretary at 202-205-2000.

SUPPLEMENTARY INFORMATION:

Background: The 2025 report will be the second of five reports that section 202A(g)(2) of the United States-Mexico-Canada Agreement Implementation Act (19 U.S.C. 4532(g)(2)) (“USMCA Implementation Act”) requires that the Commission provide on the USMCA automotive rules of origin (ROOs) and their impact on the U.S. economy, effect on U.S. competitiveness, and relevancy considering recent technology changes. In particular, the USMCA Implementation Act requires that the Commission report on the following:

(1) The economic impact of the USMCA automotive ROOs on U.S. gross domestic product; U.S. exports and imports; U.S. aggregate employment and employment opportunities; production, investment, use of productive facilities, and profit levels in the U.S. automotive industries and other pertinent industries; wages and employment of workers in the U.S. automotive sector; and the interests of U.S. consumers.

(2) The operation of the ROOs and their effects on the competitiveness of the United States with respect to production and trade in automotive goods, taking into account developments in technology, production processes, or other related matters.

(3) Whether the ROOs are relevant in light of technological changes in the United States.

(4) Such other matters as the Commission considers relevant to the economic impact of the ROOs, including prices, sales, inventories, patterns of demand, capital investment, obsolescence of equipment, and diversification of production in the United States.

The USMCA Implementation Act requires that the Commission transmit its report on July 1, 2025. The Commission is directed to submit additional reports on USMCA automotive ROOs every two years thereafter until 2031.

Public hearing: A public hearing in connection with this investigation will be held beginning at 9:30 a.m., October 8, 2024, in the Main Hearing Room of the U.S. International Trade Commission, 500 E Street SW, Washington, DC 20436. The hearing can also be accessed remotely using the WebEx videoconference platform. A link to the hearing will be posted on the Commission's website at https://www.usitc.gov/calendarpad/calendar.html.

Requests to appear at the hearing should be filed with the Secretary to the Commission no later than 5:15 p.m., September 24, 2024, in accordance with the requirements in the “Written Submissions” section below. Any requests to appear as a witness via videoconference must be included with your request to appear. Requests to appear as a witness via videoconference must include a statement explaining why the witness cannot appear in person; the Chairman, or other person designated to conduct the investigation, may at their discretion for good cause shown, grant such requests. Requests to appear as a witness via videoconference due to illness or a positive COVID-19 test result may be submitted by 3 p.m. the business day prior to the hearing.

All prehearing briefs and statements should be filed no later than 5:15 p.m., September 26, 2024. To facilitate the hearing, including the preparation of an accurate written public transcript of the hearing, oral testimony to be presented at the hearing should be submitted to the Commission electronically no later than 5:15 p.m., October 1, 2024. All posthearing briefs and statements should be filed no later than 5:15 p.m., October 16, 2024. Posthearing briefs and statements should address matters raised at the hearing. For a description of the different types of written briefs and statements, see the “Definitions of types of documents that may be filed” section below.

In the event that, as of the close of business on September 24, 2024, no witnesses are scheduled to appear at the hearing, the hearing will be canceled. Any person interested in attending the hearing as an observer or nonparticipant should check the Commission's website as indicated above for information concerning whether the hearing will be held.

Written submissions: In lieu of or in addition to participating in the hearing, interested parties are invited to file written submissions concerning this investigation. All written submissions should be addressed to the Secretary, and should be received no later than 5:15 p.m., November 18, 2024. All written submissions must conform to the provisions of section 201.8 of the Commission's Rules of Practice and Procedure (19 CFR 201.8), as temporarily amended by 85 FR 15798 (March 19, 2020). Under that rule waiver, the Office of the Secretary will accept only electronic filings at this time. Filings must be made through the Commission's Electronic Document Information System (EDIS, https://edis.usitc.gov). No in-person paper-based filings or paper copies of any electronic filings will be accepted until further notice. Persons with questions regarding electronic filing should contact the Office of the Secretary, Docket Services Division (202-205-1802), or consult the Commission's Handbook on Filing Procedures.

Definitions of types of documents that may be filed; Requirements: In addition to requests to appear at the hearing, this notice provides for the possible filing of four types of documents: prehearing briefs, oral hearing statements, posthearing briefs, and other written submissions.

(1) Prehearing briefs refers to written materials relevant to the investigation and submitted in advance of the hearing, and includes written views on matters that are the subject of the investigation, supporting materials, and any other written materials that you consider will help the Commission in understanding your views. You should file a prehearing brief particularly if you plan to testify at the hearing on behalf of an industry group, company, or other organization, and wish to provide detailed views or information that will support or supplement your testimony.

(2) Oral hearing statements (testimony) refers to the actual oral statement that you intend to present at the hearing. Do not include any confidential business information (CBI) in that statement. If you plan to testify, you must file a copy of your oral statement by the date specified in this notice. This statement will allow Commissioners to understand your position in advance of the hearing and will also assist the court reporter in preparing an accurate transcript of the hearing (e.g., names spelled correctly).

(3) Posthearing briefs refers to submissions filed after the hearing by persons who appeared at the hearing. Such briefs: (a) should be limited to matters that arose during the hearing; (b) should respond to any Commissioner and staff questions addressed to you at the hearing; (c) should clarify, amplify, or correct any statements you made at the hearing; and (d) may, at your option, address or rebut statements made by other participants in the hearing.

(4) Other written submissions refers to any other written submissions relevant to the investigation that interested persons wish to make, regardless of whether they appeared at the hearing or filed a prehearing or posthearing brief, and may include new information or updates of information previously provided.

In accordance with the provisions of section 201.8 of the Commission's Rules of Practice and Procedure (19 CFR 201.8), the document must identify on its cover (1) the investigation number and title and the type of document filed (i.e., prehearing brief, oral statement of (name), posthearing brief, or written submission), (2) the name and signature of the person filing it, (3) the name of the organization that the submission is filed on behalf of, and (4) whether it contains CBI. If it contains CBI, it must comply with the marking and other requirements set out below in this notice relating to CBI. Submitters of written documents (other than oral hearing statements) are encouraged to include a short summary of their position or interest at the beginning of the document, and a table of contents when the document addresses multiple issues.

Confidential business information: Any submissions that contain CBI must also comply with the requirements and procedures in section 201.6 of the Commission's Rules of Practice and Procedure (19 CFR 201.6). Among other things, section 201.6 of the rules requires that the cover of the document and the individual pages be clearly marked as to whether they are the “confidential” or “nonconfidential” version, and that the CBI is clearly identified by means of brackets. All written submissions, except for CBI, will be made available for inspection by interested persons.

The Commission will not include any CBI in its report. However, all information, including CBI, submitted in this investigation may be disclosed to and used: (i) by the Commission, its employees and Offices, and contract personnel (a) for developing or maintaining the records of this or a related proceeding, or (b) in internal investigations, audits, reviews, and evaluations relating to the programs, personnel, and operations of the Commission, including under 5 U.S.C. appendix 3; or (ii) by U.S. Government employees and contract personnel for cybersecurity purposes. The Commission will not otherwise disclose any CBI in a way that would reveal the operations of the firm supplying the information.

Summaries of views of interested persons: Interested persons wishing to have a summary of their views included in the report should include a summary with a written submission no later than November 18, 2024, and must use the Commission template, which can be downloaded from https://www.usitc.gov/docket_services/documents/firm_or_organization_summary_word_limit.pdf. The Commission template must be uploaded as a separate attachment to the written submission filing in EDIS. The summary may not exceed 500 words and should not include any CBI. The summary will be published as provided only if it utilizes the Commission-provided template, meets these requirements, and is germane to the subject matter of the investigation. The Commission will list the name of the organization furnishing the summary and will include a link where the written submission can be found.

By order of the Commission.
Issued: April 11, 2024.
Lisa Barton,
Secretary to the Commission.

[FR Doc. 2024-08027 Filed 4-15-24; 8:45 am]

BILLING CODE 7020-02-P